DEPARTMENT OF LABOR

Employment and Training Administration

[NAFTA-04072]

Santtony Wear LLC, Rockingham, NC; Notice of Termination of Investigation

Pursuant to Title V of the North American Free Trade Agreement Implementation Act (Pub. L. 103-182) concerning transitional adjustment assistance, hereinafter called (NAFTA-TAA), and in accordance with section 250(a), Subchapter D, Chapter 2, Title II, of the Trade Act of 1974, as amended (19 USC 2273), an investigation was initiated on August 11, 2000 in response to a petition filed on behalf of workers at Santtony Wear LLC, Rockingham, North Carolina.

In a letter dated September 12, 2000, the petitioner requested that the petition fro NAFTA-TAA be withdrawn. Consequently, further investigation in this case would serve no purpose, and the investigation has been terminated.

Signed at Washington, DC, this 20th day of September 2000.
Edward A. Tomchick,
Director, Division of Trade Adjustment Assistance.

[FR Doc. 00-25062 Filed 9-28-00; 8:45 am]

BILLING CODE 4510-30-M